DEPARTMENT OF ENERGY

Federal Energy Regulatory Commission

[Docket No. EL16-27-000]

West-Wide Must-Offer Requirements; Notice of Institution of Section 206 Proceeding and Refund Effective Date

On February 18, 2016, the Commission issued an order in Docket No. EL16-27-000, pursuant to section 206 of the Federal Power Act (FPA), 16 U.S.C. 824e (2012), instituting an investigation into the justness and reasonableness of the must-offer obligation imposed in the Western Electricity Coordinating Council ¹ during the California energy crisis of 2000-2001. West-Wide Must-Offer Requirements, 154 FERC ¶ 61,110 (2016).

¹ Formerly the Western Systems Coordinating Council.

The refund effective date in Docket No. EL16-27-000, established pursuant to section 206(b) of the FPA, will be the date of publication of this notice in the Federal Register.

Dated: February 18, 2016.
Nathaniel J. Davis, Sr.,
Deputy Secretary.

[FR Doc. 2016-03834 Filed 2-23-16; 8:45 am]

BILLING CODE 6717-01-P